DEPARTMENT OF THE INTERIOR

Bureau of Land Management

[LLNVS00000 L19200000.PH0000 LRSNCI530800 241A; MO#4500067839]

Notice of Termination of the Recreation Area Management Plan, a Comprehensive Transportation and Travel Management Plan for the Las Vegas Field Office, NV and Associated Environmental Impact Statement

AGENCY: Bureau of Land Management, Interior.

ACTION: Notice.

SUMMARY: The Bureau of Land Management (BLM) Las Vegas Field Office, Las Vegas, Nevada, intends to terminate the process for preparing a Recreation Area Management Plan (RAMP), Comprehensive Transportation and Travel Management (CTTM) Plan, and associated Environmental Impact Statement (EIS) for the Las Vegas Field Office.

FOR FURTHER INFORMATION CONTACT: Chris Linehan, telephone 702-515-5236, or email clinehan@blm.gov. Persons who use a telecommunications device for the deaf (TDD) may call the Federal Information Relay Services (FIRS) at 1-800-877-8339 to contact the above individual during normal business hours. The FIRS is available 24 hours a day, 7 days a week, to leave a message or question with the above individual. You will receive a reply during normal business hours.

SUPPLEMENTARY INFORMATION: A Notice of Intent To Prepare a RAMP, a CTTM Plan for the Las Vegas Field Office, Nevada and Associated EIS was published in the Federal Register (76 FR 5199) on Friday, January 28, 2011. The RAMP/CTTM Plan was intended to provide more specific management direction for those activities in the planning area based on the current Las Vegas and Pahrump Resource Management Plan (RMP). However, because the RMP is currently under revision and any changes to the plan may significantly change the RAMP/CTTM Plan under development, it was decided to delay the RAMP/CTTM PLAN until the Record of Decision for the RMP revision was complete. Due to a delay in the anticipated completion of the RMP revision, funding for RAMP/CTTM Plan will expire. As such, the BLM has decided that the RAMP/CTTM EIS process should be terminated.

Prior to the decision to terminate the process, public scoping meetings were held on March 1, 2, 3, 9, and 10, 2011, in Searchlight, Mesquite, Las Vegas, Goodsprings, and Overton respectively. Work also ensued on a draft EIS, but the draft EIS was neither completed nor released.

Authority: 40 CFR 1501.7; 43 CFR 1610.2 and 8342.1-2.

Mark Slaughter,
Acting Manager, Las Vegas Field Office.

[FR Doc. 2014-25691 Filed 10-28-14; 8:45 am]

BILLING CODE 4310-HC-P